DEPARTMENT OF COMMERCE

International Trade Administration

[C-570-971]

Multilayered Wood Flooring From the People's Republic of China: Preliminary Results and Partial Rescission of Countervailing Duty Administrative Review; 2022

AGENCY: Enforcement and Compliance, International Trade Administration, Department of Commerce.

SUMMARY: The U.S. Department of Commerce (Commerce) preliminarily determines that countervailable subsidies are being provided to producers and exporters of multilayered wood flooring (wood flooring) from the People's Republic of China (China). The period of review (POR) is January 1, 2022, through December 31, 2022. Interested parties are invited to comment on these preliminary results of review.

DATES: Applicable March 20, 2025.

FOR FURTHER INFORMATION CONTACT: Jonathan Schueler or Laurel Smalley, AD/CVD Operations, Office VIII, Enforcement and Compliance, International Trade Administration, U.S. Department of Commerce, 1401 Constitution Avenue NW, Washington, DC 20230; telephone: (202) 482-9175 or (202) 482-1955, respectively.

SUPPLEMENTARY INFORMATION:

Background

On December 8, 2011, Commerce issued a countervailing duty order on wood flooring from China.¹ The American Manufacturers of Multilayered Wood Flooring (the petitioner) and other interested parties requested that Commerce conduct an administrative review of the Order. On February 8, 2024, Commerce published in the Federal Register a notice of initiation of an administrative review of the Order.² We initiated an administrative review with respect to 14 producers/exporters of wood flooring from China for the POR.

¹ See Multilayered Wood Flooring from the People's Republic of China: Countervailing Duty Order, 76 FR 76693 (December 8, 2011); and Multilayered Wood Flooring from the People's Republic of China: Amended Antidumping and Countervailing Duty Orders, 77 FR 5484 (February 3, 2012), wherein the scope of the order was modified (collectively, Order).

² See Initiation of Antidumping and Countervailing Duty Administrative Reviews, 89 FR 8641 (February 8, 2024) (Initiation Notice).

On July 22, 2024, Commerce tolled certain deadlines in this administrative proceeding by seven days.³ On August 2, 2024, Commerce postponed the preliminary results of this review until December 13, 2024, in accordance with section 751(a)(3)(A) of the Act and 19 CFR 351.213(h)(2).⁴ Additionally, on December 9, 2024, Commerce tolled the deadline to issue the preliminary results in this administrative review by 90 days.⁵ The deadline for issuing these preliminary results is now March 13, 2025.

³ See Memorandum, “Tolling of Deadlines for Antidumping and Countervailing Duty Proceedings,” dated July 22, 2024.

⁴ See Memorandum, “Extension of Deadline for Preliminary Results of Countervailing Duty Administrative Review,” dated August 2, 2024.

⁵ See Memorandum, “Tolling of Deadlines for Antidumping and Countervailing Duty Proceedings,” dated December 9, 2024.

For events that occurred since the Initiation Notice, see the Preliminary Decision Memorandum.⁶ The Preliminary Decision Memorandum is a public document and is on file electronically via Enforcement and Compliance's Antidumping and Countervailing Duty Centralized Electronic Service System (ACCESS). ACCESS is available to registered users at https://access.trade.gov. In addition, a complete version of the Preliminary Decision Memorandum can be accessed at https://access.trade.gov/public/FRNoticesListLayout.aspx. A list of topics discussed in the Preliminary Decision Memorandum is included as Appendix I to this notice.

⁶ See Memorandum, “Decision Memorandum for the Preliminary Results in the Countervailing Duty Administrative Review of Multilayered Wood Flooring from the People's Republic of China; 2022,” dated concurrently with, and hereby adopted by, this notice (Preliminary Decision Memorandum).

Scope of the Order

The product covered by the Order is wood flooring from China. For a complete description of the scope of the Order, see the Preliminary Decision Memorandum.

Final Rescission of Review, In Part

On April 9, 2024, Commerce notified interested parties that we intended to rescind this administrative review with respect to the nine companies listed in Appendix II, in the absence of suspended entries during the POR.⁷ No party commented on our Intent to Rescind Memorandum. Therefore, we find that there are no reviewable entries of subject merchandise by the companies listed in Appendix II based on our review of the CBP data on the record. As a result, we are rescinding this review, in part, with respect to the nine companies listed in Appendix II, pursuant to 19 CFR 351.213(d)(3) and (4).

⁷ See Memorandum, “Notice of Intent to Rescind Review, In Part,” dated April 9, 2024 (Intent to Rescind Memorandum).

In addition, the following parties submitted no-shipment certifications: Benxi Flooring Factory (General Partnership); Dongtai Fuan Universal Dynamics, LLC; HaiLin LinJing Wooden Products Co., Ltd.; Jiashan On-Line Lumber Co., Ltd.; Pinge Timber Manufacturing (Zhejiang) Co., Ltd. (Pinge Timber); Suzhou Dongda Wood Co., Ltd.; Zhejiang Shiyou Timber Co., Ltd. All of these companies were included in the Intent to Rescind Memorandum, with the exception of Pinge Timber.⁸ We did not initiate a review with respect to Pinge Timber, thus it is not subject to this review. Therefore, as explained above, we are rescinding the review with regard to all these companies, with the exception of Pinge Timber because it is not under review.

⁸ See Intent to Rescind Memorandum.

Methodology

Commerce is conducting this review in accordance with section 751(a)(1)(A) of the Tariff Act of 1930, as amended (the Act). For each of the subsidy programs found to be countervailable, we preliminarily determine that there is a subsidy, i.e., a financial contribution by an “authority” that confers a benefit to the recipient, and that the subsidy is specific.⁹ For a full description of the methodology underlying our preliminary conclusions, including our reliance, in part, on adverse facts available pursuant to sections 776(a) and (b) of the Act, see the Preliminary Decision Memorandum.

⁹ See sections 771(5)(B) and (D) of the Act regarding financial contribution; section 771(5)(E) of the Act regarding benefit; and section 771(5A) of the Act regarding specificity.

Rate for Non-Selected Companies Under Review

As discussed above, Commerce initiated this administrative review with respect to 14 producers/exporters. We are rescinding the review for nine companies listed in Appendix II that had no suspended entries during the POR. As discussed above, this group includes six companies that certified no shipments during the POR. In addition, Commerce selected three mandatory respondents, Riverside Plywood Corp. (Riverside Plywood), Tongxiang Jisheng Import and Export Co., Ltd., (Tongxiang Jisheng) and Huzhou Fulinmen Imp. & Exp. Co., Ltd. (Huzhou Fulinmen) for individual examination.¹⁰ For the remaining two companies subject to this review, but not selected for individual examination (i.e., Benxi Wood Company and Dalian Jaenmaken Wood Industry Co., Ltd.), because only the rate calculated for mandatory respondent Riverside Plywood is above de minimis and not based entirely on facts available, we assigned the subsidy rate calculated for Riverside Plywood to Benxi Wood Company and Dalian Jaenmaken Wood Industry Co., Ltd. For further information on the calculation of the non-selected respondent rate, see Preliminary Decision Memorandum at section entitled “Non-Selected Companies Under Review.”

¹⁰ See Memoranda, “Respondent Selection,” dated March 14, 2024, and “Selection of Additional Mandatory Respondent,” dated April 16, 2024.

Rate for Non-Responsive Companies

As noted above, Huzhou Fulinmen, and Tongxiang Jisheng were selected as mandatory respondents in this review, however, neither company responded to Commerce's initial CVD questionnaires. We find that by not responding to Commerce's requests for information, these companies withheld requested information and significantly impeded this proceeding. Thus, in reaching our preliminary results, pursuant to sections 776(a)(2)(A) and (C) of the Act, we are basing the CVD subsidy rates for these non-responsive companies on facts otherwise available.

Further, we preliminarily determine that an adverse inference is warranted, pursuant to section 776(b) of the Act. By failing to submit responses to Commerce's initial CVD questionnaire, these two non-responsive companies did not cooperate to the best of their ability in this review. Accordingly, we preliminarily find that an adverse inference is warranted to ensure that the non-responsive companies will not obtain a more favorable result than if they had fully complied with Commerce's request for information. For more information on the application of adverse facts available to these two non-responsive companies, see “Use of Facts Otherwise Available and Adverse Inferences” in the Preliminary Decision Memorandum.

Preliminary Results of the Review

In accordance with 19 CFR 351.221(b)(4)(i), we preliminarily find the following net countervailable subsidy rates exist:

Producer/exporter | Subsidy rate (percent ad valorem)
Riverside Plywood Corp. and its Cross-Owned Affiliates ¹¹ | 11.17
Huzhou Fulinmen Imp. & Exp. Co., Ltd | * 430.38
Tongxiang Jisheng Import and Export Co., Ltd | * 430.38
Benxi Wood Company | 11.17
Dalian Jaenmaken Wood Industry Co., Ltd | 11.17
* Rate based entirely on facts available with adverse inferences.

Disclosure and Public Comment

¹¹ Cross-owned affiliates are: Baroque Timber Industries (Zhongshan) Co., Ltd.; Suzhou Times Flooring Co., Ltd.; and Zhongshan Lianjia Flooring Co., Ltd.

We intend to disclose the calculations performed to parties within five days after the date of publication of this notice.¹² Case briefs or other written comments may be submitted to the Assistant Secretary for Enforcement and Compliance. Pursuant to 19 CFR 351.309(c)(1)(ii), we have modified the deadline for interested parties to submit case briefs to Commerce to no later than 21 days after the date of the publication of this notice.¹³ Rebuttal briefs, limited to issues raised in the case briefs, may be filed not later than five days after the date for filing case briefs.¹⁴ Interested parties who submit case briefs or rebuttal briefs in this proceeding must submit: (1) a table of contents listing each issue; and (2) a table of authorities.¹⁵

¹² See 19 CFR 351.224(b).

¹³ See 19 CFR 351.309.

¹⁴ See 19 CFR 351.309(d); see also Administrative Protective Order, Service, and Other Procedures in Antidumping and Countervailing Duty Proceedings, 88 FR 67069, 67077 (September 29, 2023) (APO and Service Final Rule).

¹⁵ See 19 CFR 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹⁶ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).¹⁷

¹⁶ We use the term “issue” here to describe an argument that Commerce would normally address in a comment of the Issues and Decision Memorandum.

¹⁷ See APO and Service Final Rule.

Pursuant to 19 CFR 351.310(c), interested parties who wish to request a hearing must submit a written request to the Assistant Secretary for Enforcement and Compliance, filed electronically via ACCESS. Requests should contain: (1) the party's name, address, and telephone number; (2) the number of participants; and (3) a list of issues to be discussed. Issues raised in the hearing will be limited to those raised in the respective case briefs. If a request for a hearing is made, Commerce intends to hold the hearing at a time and date to be determined. Parties should confirm the date and time of the hearing two days before the scheduled date. Parties are reminded that all briefs and hearing requests must be filed electronically using ACCESS ¹⁸ and must be served on interested parties.¹⁹ Electronically filed documents must be received successfully in their entirety by 5:00 p.m. Eastern Time within 30 days after the date of publication of this notice.

¹⁸ See 19 CFR 351.303.

¹⁹ See 19 CFR 351.303(f).

Final Results

Unless the deadline is extended, we intend to issue the final results of this administrative review, which will include the results of our analysis of the issues raised in the case briefs, within 120 days of publication of these preliminary results in the Federal Register, pursuant to section 751(a)(3)(A) of the Act and 19 CFR 351.213(h).

Assessment Rates

In accordance with 19 CFR 351.221(b)(4)(i), we are preliminarily assigning subsidy rates in the amounts shown above for the producer/exporters subject to review. Upon completion of the administrative review, consistent with section 751(a)(1) of the Act and 19 CFR 351.212(b)(2), Commerce shall determine, and CBP shall assess, countervailing duties on all appropriate entries covered by this review.

For the companies for which this review is rescinded, Commerce will instruct CBP to assess countervailing duties on all appropriate entries at a rate equal to the cash deposit of estimated countervailing duties required at the time of entry, or withdrawal from warehouse, for consumption, during the period January 1, 2022, through December 31, 2022, in accordance with 19 CFR 351.212(c)(l)(i). Commerce intends to issue assessment instructions to CBP no earlier than 35 days after the date of publication of the preliminary results of this review in the Federal Register.

For the companies for which this review is not rescinded, Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) of the Act, Commerce intends, upon publication of the final results, to instruct CBP to collect cash deposits of estimated countervailing duties in the amounts shown for each of the respective companies listed above and in Appendix III on shipments of subject merchandise entered, or withdrawn from warehouse, for consumption on or after the date of publication of the final results of this administrative review. For all non-reviewed firms, we will instruct CBP to continue to collect cash deposits at the most recent company-specific or all-others rate applicable to the company. These cash deposit requirements, when imposed, shall remain in effect until further notice.

Notification to Interested Parties

These preliminary results are issued and published pursuant to sections 751(a)(1) and 777(i)(1) of the Act, and 19 CFR 351.221(b)(4).

Dated: March 13, 2025.
Christopher Abbott,
Deputy Assistant Secretary for Policy and Negotiations, performing the non-exclusive functions and duties of the Assistant Secretary for Enforcement and Compliance.

Appendix I

List of Topics Discussed in the Preliminary Decision Memorandum

I. Summary

II. Background

III. Non-Selected Companies Under Review

IV. Scope of the Order

V. Diversification of China's Economy

VI. Use of Facts Otherwise Available and Application of Adverse Inferences

VII. Subsidies Valuation

VIII. Interest Rate Benchmarks, Discount Rates, Inputs, Land-Use Benchmarks, and Electricity Benchmarks

IX. Analysis of Programs

X. Recommendation

Appendix II

Companies for Which Commerce Is Rescinding the Review

1. Benxi Flooring Factory (General Partnership)

2. Dongtai Fuan Universal Dynamics, LLC

3. HaiLin LinJing Wooden Products Co., Ltd.

4. Hunchun Xingjia Wooden Flooring Inc.

5. Jiangsu Mingle Flooring Co., Ltd.

6. Jiashan On-Line Lumber Co., Ltd.

7. Suzhou Dongda Wood Co., Ltd.

8. Zhejiang Longsen Lumbering Co., Ltd.

9. Zhejiang Shiyou Timber Co., Ltd.

[FR Doc. 2025-04708 Filed 3-19-25; 8:45 am]

BILLING CODE 3510-DS-P